FEDERAL RESERVE SYSTEM

Change in Bank Control Notices, Acquisition of Shares or Banki Holding Companies; Correction

This notice corrects a notice (FR Doc. 05-16147) published on page 48133 of the issue for Tuesday, August 16, 2005.

Under the Federal Reserve Bank of Atlanta heading, the entry for York Capital Management, L.P., New York Investment Limited, and New York Global Partners, L.P., all of New York, New York, is revised to read as follows:

A. Federal Reserve Bank of Atlanta (Andre Anderson, Vice President) 1000 Peachtree Street, N.E., Atlanta, Georgia 30303:

1. York Capital Management, L.P., York Investment Limited, York Global Value Partners, L.P., York Global Value Holdings, LLC, Dinan Management, LLC, York Offshore Holdings, Limited, Dinan Management, L.P., Dinan Management Corporation, and James G. Dinan (collectively, “York”), all of New York, New York, and York Global Value Holdings, L.P., York Global Value Holdings, LLC and James G. Dinan, individually and on behalf of the York group, to acquire up to 24.9 percent of the voting shares of PanAmerican Bancorp, Miami, Florida, and thereby indirectly acquire voting shares of PanAmerican Bank, Miami, Florida.

Comments on this application must be received by October 4, 2005.

Board of Governors of the Federal Reserve System, September 14, 2005.
Robert deV. Frierson,
Deputy Secretary of the Board.

[FR Doc. 05-18597 Filed 9-16-05; 8:45 am]

BILLING CODE 6210-01-S